DEPARTMENT OF THE INTERIOR

Bureau of Land Management

[XXXL8069TF LLUTC03000.L71220000.EU0000.LVTFJ0995850; UTU-87604 et al.]

Notice of Realty Action: Competitive Sale of Public Lands in Washington County, UT

AGENCY: Bureau of Land Management, Interior.

ACTION: Notice of realty action.

SUMMARY: The Bureau of Land Management (BLM) proposes to offer six parcels of public land totaling 191 acres in Washington County, Utah, by competitive, sealed bid followed by a live oral auction, at not less than the appraised fair market value (FMV). The sale parcels will be offered pursuant to Section 203 and Section 209 of the Federal Land Policy and Management Act of 1976 (FLPMA), and the applicable BLM land-sale regulations.

DATES: Interested parties may submit written comments regarding the proposed sale until October 3, 2014. Only written comments will be accepted. Comments may be mailed, hand delivered, or faxed to 435-688-3252. Emails will not be accepted. The public sale will not be held prior to October 20, 2014. The period to submit sealed bids and the sale date will be published in local and online media at least 30 days prior to the sale.

ADDRESSES: Submit written comments on the proposed sale to the BLM, St. George Field Office, Field Manager, 345 E. Riverside Drive, St. George, UT 84790.

FOR FURTHER INFORMATION CONTACT: Teresa Burke by email: tsburke@blm.gov, or by telephone: 435-688-3326. Persons who use a telecommunications device for the deaf (TDD) may call the Federal Information Relay Service (FIRS) at 1-800-877-8339 to leave a message or question for the above individual. The FIRS is available 24 hours a day, 7 days a week. You will receive a reply during normal business hours.

SUPPLEMENTARY INFORMATION: The BLM proposes to offer the following described parcels of public land in the St. George area for competitive sale:

Salt Lake Meridian, Utah

Parcel 1, Green Valley, UTU-87603

T. 42 S., R. 16 W.,

Sec. 35, lot 2, E½NW¼SE¼NW¼.

The area described contains 12.47 acres.

Parcel 2, Coral Canyon, UTU-87605

T. 42 S., R. 15 W.,

Sec. 13, lots 2, 5, 8.

The area described contains 8.74 acres.

Parcel 3, Washington Dome, UTU-87600

T. 42 S., R. 15 W.,

Sec. 25, lots 1, 4, 6, 7, SW¼NE¼, E½SE¼NW¼, N½NW¼SE¼NW¼.

The area described contains 145.01 acres.

Parcel 4, Sand Hollow East, UTU-87604

T. 42 S., R. 13 W.,

Sec. 18, S½SE¼SE¼SE¼.

The area described contains 5 acres.

Parcel 5, Mesa Palms, UTU-87602

T. 43 S., R. 16 W.,

Sec. 1, lot 16.

The area described contains 10 acres.

Parcel 6, Santa Clara, UTU-89024

T. 42 S., R. 16 W.,

Sec. 15, a portion of the NW¼NW¼ as described in the quit claim deed to the United States recorded in Washington County on February 21, 2008, as document No. 2008007148; 8.008 acres; and, a portion of lot 3 as described in the quit claim deed to the United States recorded in Washington County on February 21, 2008, as document No. 2008007147; 1.848 acres.

The area described contains 9.856 acres more or less.

The parcels described above aggregate approximately 191 acres. Information specific to each sale parcel including parcel number, legal description, encumbrances of record, acreage, and appraised FMV are provided on a sales matrix available on BLM's Web site at http://blm.gov/hdld. The Santa Clara Parcel involves lands that have revested with the United States pursuant to provisions of the Recreation and Public Purposes Act under 43 U.S.C. 869-1(a). Publication of this notice serves to open the lands to operation of the public land and mineral laws. If sold, the Santa Clara Parcel will be conveyed by a quit claim deed rather than a Federal patent.

The conveyance documents for the parcels identified above will contain the following, terms, conditions, and reservations:

1. A right-of-way reservation for ditches or canals constructed by authority of the United States under the Act of August 30, 1890 (43 U.S.C. 945).

2. The conveyance will be subject to all valid existing rights of records.

3. An appropriate indemnification clause protecting the United States from claims arising out of the patentee's use, occupancy, or occupations on the patented land.

All parcels identified for sale have no known mineral values and the proposed sale would include the conveyance of both the surface and minerals interests of the United States. A bid to purchase the land will constitute an application for conveyance of the mineral interest. In conjunction with the final payment, the applicant will be required to pay a $50 non-refundable filing fee for processing the conveyance of the mineral interest. No warranty of any kind, express or implied, is given by the United States as to the title, whether or to what extent the land may be developed, its physical condition, future uses, or any other circumstance or condition. The conveyance of any parcel will not be on a contingency basis. However, to the extent required by law, the parcel is subject to the requirements of Section 120(h) of the Comprehensive Environmental Response, Compensation and Liability Act (CERCLA).

The parcels are subject to limitations prescribed by law and regulation, and certain encumbrances in favor of third parties. In accordance with 43 CFR 2807.15 and 43 CFR 2886.15, all valid existing right-of-way holders of record are in receipt of notification of their ability to convert their compliant right-of-way to a perpetual right-of-way or easement.

This proposed competitive land sale is in conformance with the BLM, St. George Resource Management Plan (RMP) approved in March 1999. Parcels 1-5 are identified as suitable for disposal in the RMP, and Parcel 6, includes lands reconveyed to the United States, is identified for disposal in the Record of Plan Maintenance, dated December 20, 2007. The proposed sale has been analyzed in a site specific Environmental Assessment (DOI-BLM-UT-C030-2011-0005-EA), and the sale will be in compliance with Sections 203 and 209 of FLPMA. The six parcels at issue were segregated for a 2-year period from appropriation under the public land and mining laws on August 7, 2012, (77 FR 47090). An extension of this segregation period was determined to be necessary by the State Director in writing on July 1, 2014, in order to provide sufficient time to complete the proposed sale. Publication of this notice serves to extend the segregation for an additional 2 years, ending on August 6, 2016, in accordance with 43 CFR 2711.1-3(d). This one-time 2-year extension of the existing segregation does not affect valid existing rights authorized or acquired prior to the original segregation.

Sale Procedures: Upon announcement of the sale date, sealed bids must be submitted for the sale parcels described above prior to or on the day of the sale. Sealed-bid envelopes must be clearly marked on the front lower left corner with “Competitive Sealed-Bid Land Sale” and the parcel number. A separate bid must be submitted for each parcel, and each sealed bid must include a certified check, postal money order, bank draft, or cashier's check made payable in United States dollars to the “Department of Interior-Bureau of Land Management” in an amount not less than 20 percent of the total amount bid. The BLM will not accept personal or company checks. The sealed-bid envelope must also contain a signed “Certificate of Eligibility” form stating the name, mailing address, and telephone number of the entity or person submitting the bid. Certificate of Eligibility forms are available at the BLM, St. George Field Office at the address listed in the ADDRESSES section and on the BLM Web site at http://blm.gov/hdld. All sealed bids will be opened on the day of the sale, to be followed by oral bidding. The highest sealed bid for each parcel will establish the minimum starting bid amount for each parcel. Bids for less than the federally approved FMV will not be accepted. The high bidders will be declared on the day of the sale, and each will receive a high bidder letter within 30 days following the sale that will provide detailed information for making full payment. The successful bidders will be allowed 180 days from the date of the sale to submit the remainder of the full purchase price.

All funds submitted with unsuccessful bids will be returned to the bidders or their authorized representative upon presentation of acceptable photo identification at the BLM, George Field Office on the day of the sale or by certified mail if not present at the sale. If a successful high bidder purchases a parcel and defaults, the BLM will retain the bid deposit and cancel the sale of that parcel. If a high bidder is unable to consummate the transaction for any other reasons, the second highest bid may be considered. If there are no acceptable bids, the parcels may remain available for sale at a future date in accordance sale procedures and subject to an updated appraisal.

Federal law requires that bidders must be: (1) United States citizens 18 years of age or older; (2) A corporation subject to the laws of any State or of the United States; (3) An entity including, but not limited to, associations or partnerships capable of acquiring and owning real property, or interests therein, under the laws of the State of Utah; or (4) A State, State instrumentality, or political subdivision authorized to hold real property. Failure to submit the above documentation to the BLM within 30 days from receipt of the high-bidder letter would result in cancellation of the sale of the parcel and forfeiture of the bid deposit.

High bidders will be required to submit the remainder of the full bid price for the parcel no later than 4:30 p.m., Mountain Time, within 180 days following the day of the sale. Failure to pay the full bid price prior to the expiration of the 180th day will disqualify the high bidder and cause the entire 20 percent bid deposit to be forfeited to the BLM, in accordance with 43 CFR 2711.3-1(d). No exceptions will be made. The BLM cannot accept the remainder of the bid price after the 180th day of the sale date.

The BLM cannot be a party to and will not sign any documents related to 1031 Exchange transactions. The timing for completion of such an exchange is the responsibility of the bidder.

In accordance with 43 CFR 2711.3-1(f), within 30 days from the sale date, the BLM will accept or reject any or all offers to purchase, or withdraw any parcel of land or interest therein from sale, if, in the opinion of a BLM authorized officer, consummation of the sale would be inconsistent with any law, or for other reasons as may be provided by applicable law or regulations. No contractual or other rights against the United States may accrue until the BLM officially accepts the offer to purchase and the full bid price is paid.

On publication of this notice and until completion of the sale, the BLM is no longer accepting land use applications affecting the parcel identified for sale. However, land use applications may be considered after the sale if the parcel is not sold. The parcel may be subject to land use applications received prior to publication of this notice if processing the application would have no adverse effect on the marketability of title, or the FMV of the parcel. Information concerning the sale, encumbrances of record, appraisals, reservations procedures and conditions, CERCLA, and other environmental documents that may appear in the BLM public files for the proposed sale parcels are available for review during business hours, 7:30 a.m. to 4:30 p.m., Mountain Time, Monday through Friday, at the BLM, St. George Field Office, except during Federal holidays. In order to determine FMV through appraisal, certain extraordinary assumptions and hypothetical conditions may have been made concerning the attributes and limitations of the lands and potential effects of local regulation and policies on potential future land uses. Through publication of this notice, the BLM advises that these assumptions may not be endorsed or approved by units of local government.

It is the buyer's responsibility to be aware of all applicable Federal, State, and local government laws, regulations, and policies that may affect the subject lands, including any required dedication of lands for public uses. It is the responsibility of the buyer to be aware of existing or prospective uses of nearby properties. When conveyed out of Federal ownership, the lands would be subject to any applicable laws, regulations, and policies of the applicable local government for proposed future uses. It is the responsibility of the buyer to be aware through due diligence of those laws, regulations, and policies, and to seek any required local approvals for future uses. Buyers should also make themselves aware of any Federal or State law or regulation that may affect the future use of the property. Any land lacking access from a public road or highway would be conveyed as such, and future access acquisition would be the responsibility of the buyer.

Before including your address, phone number, email address, or other personal identifying information in any comments, be aware that your entire comment—including personal identifying information—may be made publicly available at any time. Requests to withhold personal identifying information from public review can be submitted, but the BLM cannot guarantee that it will be able to do so.

Any adverse comments regarding the proposed sale will be reviewed by the BLM, State Director or other authorized official of the Department of the Interior, who may sustain, vacate, or modify this realty action. In the absence of any adverse comments, this realty action will become the final determination of the Department of the Interior.

Authority: 43 CFR part 2711 and 43 CFR part 2720.

Jenna Whitlock,
Associate State Director.

[FR Doc. 2014-19609 Filed 8-18-14; 8:45 am]

BILLING CODE 4310-DQ-P